DEPARTMENT OF JUSTICE

Notice Lodging of Proposed Joint Stipulation To Modify Consent Decree Under the Clean Air Act

On June 25, 2015, the Department of Justice lodged a proposed Joint Stipulation to Modify Consent Decree with the United States District Court for the Northern District of Alabama in the lawsuit entitled United States v. Alabama Power Company, Civil Action No. 2:01-cv-00152-VEH.

In this civil enforcement action under the federal Clean Air Act (“Act”), the United States alleged that Alabama Power Company failed to comply with certain requirements of the Act intended to protect air quality at coal-fired electric generating stations located in Alabama. Specifically, the complaint requested injunctive relief and civil penalties for violations of the Clean Air Act's Prevention of Significant Deterioration provisions, 42 U.S.C. 7470-92, and various Clean Air Act implementing regulations. On April 25, 2006, the District Court entered a partial consent decree settling some of the claims alleged in the complaint. The proposed Joint Stipulation to Modify Consent Decree would modify the partial consent decree to settle the remaining claims in the litigation to secure additional reductions in emissions of sulfur dioxide and nitrogen oxides through the operation of emissions controls and unit retirements and conversions to natural gas operation. Alabama Power will also pay a civil penalty of $100,000 and pay $1,500,000 to fund environmental mitigation projects that will further reduce emissions and benefit communities in Alabama.

The publication of this notice opens a period for public comment on the proposed Joint Stipulation to Modify Consent Decree. Comments should be addressed to the Assistant Attorney General, Environment and Natural Resources Division, and should refer to United States v. Alabama Power Company, D.J. Ref. No. 90-5-2-1-06994. All comments must be submitted no later than thirty (30) days after the publication date of this notice. Comments may be submitted by email or by mail:

To submit comments: | Send them to:
By email | pubcomment-ees.enrd@usdoj.gov.
By mail | Assistant Attorney General, U.S. DOJ—ENRD, P.O. Box 7611, Washington, DC 20044-7611.

During the public comment period, the proposed Joint Stipulation to Modify Consent Decree may be examined and downloaded at this Justice Department Web site: http://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $ 6.25 (25 cents per page reproduction cost) payable to the United States Treasury.

Maureen Katz,
Assistant Section Chief, Environmental Enforcement Section, Environment and Natural Resources Division.

[FR Doc. 2015-16021 Filed 6-29-15; 8:45 am]

BILLING CODE 4410-19-P